DEPARTMENT OF THE TREASURY

Office of Thrift Supervision

[AC-11: OTS Nos. H-3916 and 04055]

CCSB Financial Corporation and Clay County Savings & Loan Association, Liberty, Missouri; Approval of Conversion Application

Notice is hereby given that on November 12, 2002, the Director, Supervision Policy, Office of Thrift Supervision, or her designee, acting pursuant to delegated authority, approved the application of Clay County Savings & Loan Association, Liberty, Missouri, to convert from the mutual to the stock form of organization and to change its name to Clay County Savings Bank. Copies of the application are available for inspection by appointment (phone number: 202-906-5922 or e-mail: Public.Info@OTS.Treas.gov) at the Public Reading Room, OTS, 1700 G Street, NW., Washington, DC 20552, and the OTS Midwest Regional Office, 225 E. John Carpenter Freeway, Suite 500, Irving, Texas 75062-2326.

Dated: November 14, 2002.
By the Office of Thrift Supervision.
Nadine Y. Washington,
Corporate Secretary.

[FR Doc. 02-29406 Filed 11-19-02; 8:45 am]

BILLING CODE 6720-01-M